DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-76, dated October 14, 1980, and corrected at 45 FR 69296, October 20, 1980, as amended most recently at 76 FR 50223-24, dated August 12, 2011) is amended to reflect the reorganization of National Center for HIV/AIDS, Viral Hepatitis, STD, and TB Prevention, Office of Infectious Diseases, Centers for Disease Control and Prevention.

Section C-B, Organization and Functions, is hereby amended as follows:

After the title and functional statements for the Division of Viral Hepatitis (CVJH), insert the following:

Division of Adolescent and School Health (CVJJ). (1) In cooperation with other CDC components, administers programs addressing priority sexual health risks and related health behaviors among youth; (2) identifies and monitors priority sexual health risks and related health behaviors among youth that result in the transmission of HIV/AIDS, other sexually transmitted infections and unintended pregnancy; (3) provides consultation, training, educational, and other technical services to assist state, territorial, and local education and health departments, tribal governments, national nongovernmental organizations, and other societal institutions to implement and evaluate policy, systems, and environmental changes and interventions to reduce priority sexual health risks among youth; (4) in coordination with other CDC components, supports international, national, state, tribal, and local school-based surveillance systems to monitor priority health risk behaviors and health outcomes among youth, along with the policies, programs, and practices schools implement to address them; (5) conducts evaluation research to expand knowledge of the determinants of priority health risk behaviors among youth and to identify effective policies and practices that schools and other societal institutions can implement to reduce priority health risks among youth; (6) develops and disseminates guidelines and tools to help schools and other societal institutions apply research synthesis findings to reduce priority health risks among youth; (7) provides leadership and consultation on the use of a coordinated approach to school health; (8) provides leadership and consultation to other divisions within NCHHSTP and CDC on how schools work and how to foster effective collaboration between public health and education departments; (9) provides information to the scientific community and the general public through publications and presentations; and (10) in accomplishing the functions listed above, collaborates with other components of CDC and HHS; the U.S. Department of Education and other federal agencies; national professional, voluntary, and philanthropic organizations; international agencies; and other societal institutions as appropriate.

Office of the Director (CVJJ1). (1) Plans, directs, and evaluates the activities of the division; (2) provides national leadership and guidance in policy formulation and program planning and development to reduce sexual health risks among youth and improve school health programs, policies, and practices; (3) provides leadership and guidance for program management and operations; (4) provides leadership in coordinating activities between the division and other NCHHSTP divisions in addressing priority sexual health risks among adolescents; (5) promotes collaboration with other NCHHSTP divisions and other governmental and non-governmental organizations for the development of policies and evaluation methods; (6) coordinates division responses to inquiries from national and local communications media; (7) implements science and evidence-based communication programs, initiatives, and strategies that target state and local health and education partners, media, national organizations, and consumers; (8) systematically translates, promotes, and disseminates science-based messages through multiple communication products and channels; (9) implements effective internal communication strategies targeting the Division of Adolescent and School Health (DASH) and other CDC staff; (10) oversees creation, production, promotion, and dissemination of materials designed for use by the media, partners, national organizations, and consumers, including press releases, brochures, fact sheets, toolkits, other print and electronic materials, and ensures appropriate clearance of these materials; (11) assists in the preparation of speeches and congressional testimony for the division director, the center director, and other public health officials; (12) provides program services support in extramural programs management; and (13) collaborates, as appropriate, with other divisions and offices of NCHHSTP, other CIOs throughout CDC, and other federal agencies in carrying out these activities.

Program Development and Services Branch (CVJJB). (1) Provides consultation, training, educational, and other technical services to assist state, territorial, and local education and health departments, tribal governments, national nongovernmental organizations, and other societal institutions to implement and improve policy, systems, and environmental changes and interventions to reduce priority sexual health risks among youth; (2) uses the results of surveillance and evaluation research and research syntheses to improve the impact of school- and community-based interventions designed to reduce priority health risks among youth and to promote changes in behaviors related to HIV/AIDS, other sexually transmitted diseases, and unintended pregnancy; (3) provides leadership to the nationwide network of leaders in school-based HIV prevention to promote linkages between state and local public health departments with education agencies; (4) assesses training and technical assistance needs and develops strategies to build the capacity of funded partners, other external partners, and division staff, and (5) provides consultation to other divisions within NCHHSTP and CDC on how schools work and how to foster effective collaboration between public health and education departments.

Research Application and Evaluation Branch (CVJJC). (1) Conducts evaluation research to expand knowledge of the determinants of priority health risk behaviors among youth and to identify effective policies and practices that schools and other societal institutions can implement to reduce priority health risks among youth; (2) synthesizes and disseminates research findings to improve the impact of interventions designed to reduce priority sexual health risks among youth, including those designed to address cross-cutting issues and protective factors; (3) develops and disseminates guidelines and tools to help schools and other societal institutions apply research synthesis findings to reduce priority health risks among youth; and (4) in collaboration with other NCHHSTP divisions and with other governmental and non-governmental organizations, develops and promotes evidence-based policies, practices, and evaluation methods.

School-Based Surveillance Branch (CVJJD). (1) Maintains international, national, state, tribal, and local school-based surveillance systems to identify and monitor priority health risk behaviors and health outcomes among youth; (2) maintains national, state, tribal, and local surveillance systems to monitor school health policies and practices designed to address priority health risk behaviors and health outcomes among youth; (3) designs, develops, and disseminates a wide variety of products describing school-based surveillance data; (4) provides comprehensive technical assistance to state and local education and health agencies, tribal governments, and ministries of health and education in the planning and implementation of school-based surveillance systems; (5) manages extramural funding of school-based surveillance systems; and (6) collaborates with other branches, divisions, and offices in NCHHSTP and other CIOs throughout CDC to accomplish the functions listed above.

Dated: January 11, 2012.
Sherri A. Berger,
Chief Operating Officer, Centers for Disease Control and Prevention.

[FR Doc. 2012-1817 Filed 1-27-12; 8:45 am]

BILLING CODE 4160-18-M